DEPARTMENT OF ENERGY

Federal Energy Regulatory Commission

[Project No. 459-128]

Union Electric Company, d/b/a, AmerenUE; Notice of Public Meetings on Environmental Assessment

March 9, 2006.

The Federal Energy Regulatory Commission (Commission) hereby gives notice that members of its staff will conduct two public meetings on the environmental assessment (EA) for the Osage Hydroelectric Project No. 459-128. The times and locations of these meetings are as follows:

Lake Ozark Meeting:

Date: March 23, 2006.

Time: 7 to 10 p.m.

Place: Lodge of the Four Seasons Conference Center.

Address: 315 Four Seasons Drive, Lake Ozark, Missouri 65049.

Warsaw Meeting:

Date: March 24, 2006.

Time: 7 to 10 p.m.

Place: City of Warsaw Community Building, Gymnasium.

Address: 181 W. Harrison, Warsaw, Missouri 65355.

The purpose of these meetings is to solicit comments on the EA prepared for the relicensing of the Osage Project. The EA was issued and publicly noticed on February 7, 2006, and is available for review on the Commission's Web site at http://www.ferc.gov, using the “eLibrary” link. The project is located on the Osage River, in Benton, Camden, Morgan, and Miller counties, Missouri.

These meetings are open to the public. All local, state, and Federal agencies, Indian Tribes, and other interested parties are invited to participate. Transcripts of the meetings will be prepared.

In order to ensure that the record in the relicensing proceeding is accurate and complete and that all participants have an adequate opportunity to comment on the EA, the deadline for filing comments on the EA is extended to March 31, 2006.

Please contact Allan Creamer at (202) 502-8365, or via e-mail at allan.creamer@ferc.gov, with questions or for additional information.

Magalie R. Salas,
Secretary.

[FR Doc. E6-3869 Filed 3-16-06; 8:45 am]

BILLING CODE 6717-01-P